LEGAL SERVICES CORPORATION

Notice of Availability of Calendar Year 2010 Competitive Grant Funds

AGENCY: Legal Services Corporation.

ACTION: Solicitation for Proposals for the Provision of Civil Legal Services.

SUMMARY: The Legal Services Corporation (LSC) is the national organization charged with administering Federal funds provided for civil legal services to low-income people.

LSC hereby announces the availability of competitive grant funds and is soliciting grant proposals from interested parties who are qualified to provide effective, efficient, and high quality civil legal services to eligible clients in the service area(s) of the states and territories identified below. The exact amount of congressionally appropriated funds and the date, terms, and conditions of their availability for calendar year 2010 have not been determined.

DATES: See SUPPLEMENTARY INFORMATION section for grants competition dates.

ADDRESSES: Legal Services Corporation—Competitive Grants, 3333 K Street, NW., Third Floor, Washington, DC 20007-3522.

FOR FURTHER INFORMATION CONTACT: Office of Program Performance by e-mail at competition@lsc.gov, or visit the grants competition Web site at http://www.grants.lsc.gov.

SUPPLEMENTARY INFORMATION: The Request for Proposals (RFP) will be available April 10, 2009. Applicants must file a Notice of Intent to Compete (NIC) to participate in the competitive grants process. Applicants must file the NIC by May 15, 2009, 5 p.m. E.D.T. The due date for filing grant proposals is June 5, 2009, 5 p.m. E.D.T.

LSC is seeking proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

The RFP, containing the NIC and grant application, guidelines, proposal content requirements, service area descriptions, and specific selection criteria, will be available from http://www.grants.lsc.gov April 10, 2009. LSC will not fax the RFP to interested parties.

Below are the service areas for which LSC is requesting grant proposals. Service area descriptions will be available from Appendix A of the RFP. Interested parties are asked to visit http://www.grants.lsc.gov regularly for updates on the LSC competitive grants process. LSC will post updates, corrections, and/or changes to this notice at http://www.grants.lsc.gov.

State | Service area
Alabama | AL-4, MAL
Arkansas | MAR
American Samoa | AS-1
California | CA-2, CA-19, CA-26, CA-29, CA-30, CA-31, MCA
Colorado | CO-6, MCO, NCO-1
Florida | FL-5, FL-13, FL-14, FL-15, FL-16, FL-17, FL-18, MFL
Georgia | GA-1, GA-2, MGA
Hawaii | HI-1, NHI-1
Illinois | IL-6, MIL
Indiana | IN-5, MIN
Kentucky | MKY
Louisiana | LA-10, LA-11, MLA
Massachusetts | MA-4, MA-10, MA-12
Minnesota | NMN-1
Mississippi | MS-9, MMS, NMS-1
Montana | MT-1, MMT, NMT-1
Nevada | NV-1, MNV, NNV-1
New York | NY-7, NY-20, NY-21, NY-22, NY-23, NY-24, MNY
North Carolina | NC-5, MNC, NNC-1
Ohio | OH-5, OH-17
Oklahoma | OK-3, MOK
Pennsylvania | PA-1, PA-5, PA-8, PA-11, PA-23, PA-26, MPA
Puerto Rico | PR-1, MPR
South Carolina | SC-8, MSC
Tennessee | MTN
Texas | MTX
Virginia | VA-20
Wisconsin | WI-2, NWI-1

Dated: March 6, 2009.
Janet LaBella,
Director, Office of Program Performance, Legal Services Corporation.

[FR Doc. E9-5467 Filed 4-2-09; 8:45 am]

BILLING CODE 7050-01-P